Proclamation 10641 of September 29, 2023

National Community Policing Week, 2023

By the President of the United States of America

A Proclamation

All Americans want the same thing: neighborhoods free of violence and crime, for our loved ones to come home safely each day, and fair and impartial justice under the law. During National Community Policing Week, we recommit to achieving those goals by strengthening the trust and partnership between law enforcement and communities across our Nation.

The vast majority of police officers put their lives on the line every day to do the right thing. They pin on their shield and walk out the door toward danger, risking their lives to keep the rest of us safe. They are good, dedicated, honorable people, who work hard to cultivate positive relationships with the communities they have sworn to protect, serving at a time when working in law enforcement is harder than it has ever been. Law enforcement officers are expected to act as counselors, social workers, and psychologists as they respond to drug overdoses, domestic violence, abandoned children, mental health crises, and other incredibly challenging situations.

Trust between law enforcement and the communities they serve is the foundation of public safety. When officers on the beat know the neighborhoods and the families they are serving and protecting; when they get the training, resources, and tools they need to do their jobs; and when they earn the community's trust, we are all safer and stronger. Without public trust, there is less public safety—crimes go unreported, cases go unsolved, witnesses fear coming forward, victims suffer in isolation, perpetrators remain free, and justice remains undelivered.

That is why my Administration has taken historic steps to support community policing and strengthen public trust in law enforcement by providing officers with the resources and training they need to be the partners and protectors our communities deserve. When funding for police was at risk because of the pandemic, my Administration's American Rescue Plan delivered a historic $350 billion to help States and cities respond. Hundreds of communities across our Nation have committed over $10 billion of those funds to retain and hire more officers; pay overtime and bonuses; and secure more crisis responders and personnel to provide for substance use disorder, mental health, and violence intervention services. We committed more Federal resources to supporting State and local law enforcement in the first year of my Administration than almost any other year on record. Furthermore, I signed the most sweeping gun safety law in nearly 30 years to ensure that officers are not out-gunned on the streets. And we are strengthening background checks for gun purchasers, cracking down on illegal gun sales, and reigning in ghost guns that officers have increasingly reported finding at crime scenes.

After Senate Republicans blocked the passage of the George Floyd Justice in Policing Act in 2021, I signed an Executive Order—with the support of leaders from law enforcement and civil rights groups as well as affected families, including the Floyd family—that put Federal policing on a path to becoming the gold standard for effective and accountable policing. Incorporating key elements of the George Floyd Justice in Policing Act, the Executive Order requires Federal law enforcement agencies to ban chokeholds, restrict no-knock warrants, provide de-escalation training, and implement stronger use-of-force policies that include the duty to intervene and render medical aid. Further, we mandated that Federal officers submit use-of-force data to the FBI's Use-of-Force Data Collection and log officer misconduct and commendation records into a new national accountability database. The Executive Order also directs Federal resources to support similar reforms within State, Tribal, local, and territorial law enforcement agencies as we continue to call on the Congress to pass the George Floyd Justice in Policing Act.

My Administration's Safer America Plan builds on these actions by seeking an additional $37 billion to hire 100,000 more State and local police officers trained in safe, effective, and accountable community policing consistent with the standards in my Executive Order; to provide law enforcement with mental health and wellness resources; to ensure more psychologists and social workers are available to respond to a crisis alongside them; and to establish and support programs that are proven to tackle the root causes of crime.

There is no greater responsibility of government than ensuring the safety of the American people and those who sacrifice to protect us all. This week, let us recognize the heroism, selflessness, and courage of police officers across America. Let us honor the communities they serve for their undaunted efforts to advance equal justice, safety, and dignified treatment for all. And let us commit to building a future that supports public safety, promotes trust, and unites communities across the Nation.

NOW, THEREFORE, I, JOSEPH R. BIDEN JR., President of the United States of America, by virtue of the authority vested in me by the Constitution and the laws of the United States, do hereby proclaim October 1 through October 7, 2023, as National Community Policing Week. I call upon law enforcement agencies, elected officials, and all Americans to observe this week by recognizing ways to improve public safety, build trust, and strengthen community relationships.

IN WITNESS WHEREOF, I have hereunto set my hand this twenty-ninth day of September, in the year of our Lord two thousand twenty-three, and of the Independence of the United States of America the two hundred and forty-eighth.

[FR Doc. 2023-22242

Filed 10-3-23; 8:45 am]

Billing code 3395-F4-P